OFFICE OF THE UNITED STATES TRADE REPRESENTATIVE

Request for Public Comments to Compile the Report on Technical Barriers to Trade

AGENCY: Office of the United States Trade Representative.

ACTION: Notice and Request for Comments.

SUMMARY: Pursuant to section 181 of the Trade Act of 1974, as amended (19 U.S.C. 2241), the Office of the United States Trade Representative (USTR) will be publishing in 2014 a Report on Technical Barriers to Trade (TBT Report) identifying and analyzing significant standards-related barriers to U.S. exports. With this notice, the Trade Policy Staff Committee (TPSC) is requesting interested persons to submit written comments to assist it in identifying significant standards-related barriers to U.S. exports of goods for inclusion in the report.

DATES: Public comments are due not later than November 15, 2013.

ADDRESSES: Submissions should be made via the Internet at www.regulations.gov under the docket number USTR-2013-0034. For alternatives to on-line submissions please contact Yvonne Jamison at (202-395-3475) or Yvonne_D_Jamison@ustr.eop.gov. The public is strongly encouraged to file submissions electronically rather than by facsimile or mail.

FOR FURTHER INFORMATION CONTACT: Questions regarding the TBT Report or substantive questions or comments concerning standards-related measures should be directed to Jennifer Stradtman, Director, Technical Barriers to Trade, USTR (202-395-4498).

SUPPLEMENTARY INFORMATION: The TBT Report sets out an inventory of standards-related non-tariff barriers to U.S. exports. This inventory facilitates U.S. efforts to reduce or eliminate these barriers. The report also provides a valuable tool in enforcing U.S. trade laws and strengthening the rules-based trading system. The 2013 and earlier TBT Reports may be found on USTR's Internet Home Page (http://www.ustr.gov) under “USTR News” under the tab “Reports”.

To ensure compliance with the applicable statutory mandate and the Obama Administration's commitment to focus on the most significant foreign trade barriers, USTR will be guided by the existence of active private sector interest in deciding which issues to include in the Report.

Topics on which the TPSC Seeks Information: To assist USTR in the preparation of the 2014 TBT Report, commenters should submit information related to standards-related measures (including standards, technical regulations, and conformity assessment procedures). Such measures should constitute significant foreign trade barriers to U.S. exports.

TBT Report: On April 1, 2013, USTR released the fourth annual TBT report. This report serves as a tool to bring greater attention and focus to resolving standards-related issues that may be inconsistent with international trade agreements to which the United States is a party or that otherwise act as significant foreign barriers to U.S. exports. USTR plans to use comments on standards-related measures submitted pursuant to this notice in producing this report.

The following information describing standards-related measures may help commenters to file submissions on particular foreign trade barriers under the TBT docket.

Standards-related Measures: Broadly, standards-related measures are documents and procedures that set out specific technical or other requirements for products or processes as well as procedures to ensure that these requirements are met. Standards-related measures comprise standards, technical regulations, and conformity assessment procedures, such as mandatory process or design standards, labeling or registration requirements, and testing or certification procedures. The World Trade Organization (WTO) Agreement on Technical Barriers to Trade includes the following definitions for (i) standards, (ii) technical regulation, and (iii) conformity assessment procedure.

Standard: Document approved by a recognized body, that provides, for common and repeated use, rules, guidelines, or characteristics for products or related processes and production methods, with which compliance is not mandatory. It may also include or deal exclusively with terminology, symbols, packaging, marking, or labeling requirements as they apply to a product, process, or production method.

Technical regulation: Document which lays down product characteristics or their related processes and production methods, including the applicable administrative provisions, with which compliance is mandatory. It may also include or deal exclusively with terminology, symbols, packaging, marking, or labeling requirements as they apply to a product, process, or production method.

Conformity assessment procedures: Any procedure used, directly or indirectly, to determine that relevant requirements in technical regulations or standards are fulfilled. Standards-related measures can be applied not only to industrial products, such as machinery or toys, but to agricultural products as well, such as food nutrition labeling schemes and food quality or identity requirements.

For further information on standards-related measures and additional detail on the types of comments that would assist USTR in identifying and addressing significant trade-restrictive standards-related measures, please see “Supporting & Related Materials” under dockets USTR—2013-0034 at www.regulations.gov. The previously released TBT Reports also contain extensive information on standards-related measures that commenters may find useful in preparing comments in response to this notice. Those reports are available at http://www.ustr.gov/about-us/press-office/reports-and-publications/2012/technical-barriers-trade-tbt-report.

In responding to this notice, commenters should place particular emphasis on any practices that raise issues with respect to U.S. trade agreements, including the WTO Agreement on Technical Barriers to Trade. The TPSC is also interested in receiving new or updated information pertinent to the barriers covered in the 2013 TBT Report as well as information on new barriers. If USTR does not include in the 2014 TBT Report information that USTR receives pursuant to this notice, USTR will maintain the information for potential use in future discussions or negotiations with trading partners.

Estimate of Increase in Exports: Each comment should include an estimate of the potential increase in U.S. exports that would result from removing any standards-related barrier the comment identifies, as well as a description of the methodology the commenter used to derive the estimate. Estimates should be expressed within the following value ranges: Less than $5 million; $5 to $25 million; $25 million to $50 million; $50 million to $100 million; $100 million to $500 million; or over $500 million. These estimates will help USTR conduct comparative analyses of a barrier's effect over a range of industries.

Requirements for Submissions: Commenters providing information on standards-related measures in more than one country should, whenever possible, provide a separate submission for each country.

In order to ensure the timely receipt and consideration of comments, USTR strongly encourages commenters to make on-line submissions, using the http://www.regulations.gov Web site, docket number: USTR-2013-0034

To make a submission, enter this docket number in the “Enter Keyword or ID” window at the http://www.regulations.gov home page and click “Search.” The site will provide a search-results page listing all documents associated with that docket number. Find a reference to this notice and click on the link entitled “Submit a Comment.” (For further information on using the www.regulations.gov Web site, please consult the resources provided on the Web site by clicking on the “Help” tab.) The http://www.regulations.gov Web site provides the option of making submissions by filling in a comments field, or by attaching a document. USTR prefers submissions to be provided in an attached document. If a document is attached, please identify the name of the country to which the submission pertains in the “Comments” field. For example: “See attached comment on standards-related measures for (name of country)”. USTR prefers submissions in Microsoft Word (.doc) or Adobe Acrobat (.pdf).

For any comments submitted electronically containing business confidential information, the file name of the business confidential version should begin with the characters “BC”. The top of any page containing business confidential information must be clearly marked “BUSINESS CONFIDENTIAL”. Any person filing comments that contain business confidential information must also file in a separate submission a public version of the comments. The file name of the public version of the comments should begin with the character “P”. The “BC” and “P” should be followed by the name of the person or entity submitting the comments. If a comment contains no business confidential information, the file name should begin with the name of the person or entity submitting the comments.

Please do not attach separate cover letters to electronic submissions; rather, include any information that might appear in a cover letter in the comments themselves. Similarly, to the extent possible, please include any exhibits, annexes, or other attachments in the same file as the submission itself, not as separate files.

Public Inspection of Submissions

Comments will be placed in the docket and open to public inspection except confidential business information exempt from public inspection. Comments may be viewed on the http://www.regulations.gov Web site by entering the relevant docket number in the search field on the home page.

William Shpiece,
Acting Chair, Trade Policy Staff Committee.

[FR Doc. 2013-24720 Filed 10-22-13; 8:45 am]

BILLING CODE 3190-F3-P